DEPARTMENT OF THE INTERIOR

Fish and Wildlife Service

50 CFR Part 17

Notice of Availability of a Draft Recovery Plan for Five Plants From Monterey County, CA, for Review and Comment

AGENCY: Fish and Wildlife Service, Interior.

ACTION: Notice of document availability.

SUMMARY: We, the U.S. Fish and Wildlife Service (Service), announce the availability for public review of a Draft Recovery Plan for Five Plants from Monterey County, California. This recovery plan includes the following species: coastal dunes milk-vetch (Astragalus tener var. titi), Yadon's piperia (Piperia yadonii), Hickman's potentilla (Potentilla hickmanii), Monterey clover (Trifolium trichocalyx), and Gowen cypress (Cupressus goveniana ssp. goveniana). These plant species are found primarily along the coast of northern Monterey County, California. Hickman's potentilla also occurs in San Mateo County and has occurred historically in Sonoma County. Coastal dunes milk-vetch has occurred historically in Los Angeles and San Diego Counties, California. The Service solicits review and comment from local, State, and Federal agencies, and the public on this draft recovery plan.

DATES: Comments on the draft recovery plan must be received on or before July 12, 2002 to receive consideration by the Service.

ADDRESSES: Copies of the draft recovery plan are available for inspection, by appointment, during normal business hours at the following location: U.S. Fish and Wildlife Service, Ventura Fish and Wildlife Office, 2493 Portola Road, Suite B, Ventura, California 93003 (phone: 805-644-1766). Requests for copies of the draft recovery plan, and written comments and materials regarding this plan should be addressed to Ms. Diane K. Noda, Field Supervisor, at the above Ventura address.

FOR FURTHER INFORMATION CONTACT: Heidi E.D. Crowell, Fish and Wildlife Biologist, at the above address.

SUPPLEMENTARY INFORMATION:

Background

Restoring endangered or threatened animals and plants to the point where they are again secure, self-sustaining members of their ecosystems is a primary goal of the Service's endangered species program. To help guide the recovery effort, the Service is working to prepare recovery plans for most of the listed species native to the United States. Recovery plans describe actions considered necessary for the conservation of the species, establish criteria for the recovery levels for downlisting or delisting them, and estimate time and cost for implementing the recovery measures needed.

The Endangered Species Act, as amended in 1988 (16 U.S.C. 1531 et seq.) (Act), requires the development of recovery plans for listed species unless such a plan would not promote the conservation of a particular species. Section 4(f) of the Act requires that public notice and an opportunity for public review and comment be provided during recovery plan development. The Service will consider all information presented during the public comment period prior to approval of each new or revised recovery plan. Substantive technical comments will result in changes to the plans. Substantive comments regarding recovery plan implementation may not necessarily result in changes to the recovery plans, but will be forwarded to appropriate Federal or other entities so that they can take these comments into account during the course of implementing recovery actions. Individualized responses to comments will not be provided.

Coastal dunes milk-vetch, Yadon's piperia, Hickman's potentilla and Monterey clover are listed as endangered. Gowen cypress is listed as a threatened species.

Coastal dunes milk-vetch is restricted to sandy soils that occur within 30 meters (m) (98 feet (ft)) of the ocean beach on relatively flat coastal terraces that are exposed to ocean sprays and periodic saturation. Only one extant population is currently known to occur, made up of approximately 11 scattered patches of plants that are separated by 17-Mile Drive on the western edge of the Monterey Peninsula. The land is owned by the Pebble Beach Company and the Monterey Peninsula Country Club.

Yadon's piperia is endemic to Monterey County and has a center of distribution within large undeveloped tracts of Monterey pine forest. Its range extends from the Los Lomos area near the border of Santa Cruz County in the north to approximately 25 kilometers (km) (15 miles (mi)) south of the Monterey Peninsula near Palo Colorado Canyon where it occurs in a maritime chaparral habitat. Some of the plants occur on protected property, while a large proportion of plants occur on unprotected private property.

Hickman's potentilla is currently known from one site on the Monterey Peninsula and at one site in San Mateo County. The population in Monterey County grows in fine sandy soils within an opening of Monterey pine forest that supports wet conditions for a variety of native and nonnative grassland species. The population in San Mateo County was presumed extirpated until it was rediscovered on private land in 1995 by biologists conducting surveys for a highway project.

Monterey clover is known from only one area in the vicinity of Huckleberry Hill within the Monterey Peninsula. Only a few scattered individuals were reported in the late 1990's. This species is a classic fire-follower, taking advantage of reduced forest cover that allows a significantly higher proportion of light to reach the herbaceous ground cover for the first few years after a fire. Fire suppression activities and development within the Pebble Beach Company property are likely negatively affecting this species' habitat and seed bank.

Gowen cypress is currently found in only two stands, in addition to individuals that occur locally in cultivation. The largest stand (Del Monte Forest) is near Huckleberry Hill on the west side of the Monterey Peninsula and covers approximately 40 hectares (ha) (100 acres (ac)) within lands owned by the Pebble Beach Company and the Del Monte Forest Foundation. The second stand (Point Lobos) occurs 10 km (6 mi) south of Huckleberry Hill on the north side of Gibson Creek inland of the Point Lobos Peninsula. This stand occurs on a 60-ha (150-ac) parcel owned by the California Department of Parks and Recreation and is somewhere between 16 and 32 ha (40 and 80 ac) in size. The stands occur in mixed conifer forest and maritime chaparral habitats. Within the chaparral habitat, the cypress also grows in a dense, dwarf or pygmy forest.

These plants are threatened by one or more of the following: alteration, destruction, and fragmentation of habitat resulting from urban and golf course development; recreational activities; competition with nonnative plant species; herbivory from native or nonnative species; demographic stochasticity; and disruption of natural fire cycles due to fire suppression associated with increasing residential development around and within occupied habitat.

The objective of this recovery plan is to provide a framework for the recovery of coastal dunes milk-vetch, Yadon's piperia, Hickman's potentilla, Monterey clover, and Gowen cypress so that protection by the Act is no longer necessary. This recovery plan establishes criteria necessary to accomplish delisting of Gowen cypress and downlisting of coastal dunes milk-vetch, Yadon's piperia, Hickman's potentilla, and Monterey clover to threatened status. These criteria include: (1) Permanent protection of habitat presently occupied by the species and the surrounding ecosystem on which they depend, with long-term commitments to conserving the species; (2) in a protected habitat, successful control of invasive, nonnative plants and successful management of other problems (management success must be demonstrated through at least 10 years of biological monitoring); (3) development of management strategies that include results from research on the life histories of the taxa, and results from monitoring the species' response to vegetation management; (4) successful reintroduction or establishment of populations for coastal dunes milk-vetch, Hickman's potentilla, and Monterey clover; (5) implementation of a prescribed burn plan or successful alternative management strategy for Gowen cypress; (6) monitoring to demonstrate long-term viability of existing populations, including successful recruitment and reproduction; and (7) establishment of seed banks at recognized institutions. Criteria for delisting of coastal dunes milk-vetch, Yadon's piperia, Hickman's potentilla, and Monterey clover may be addressed in future revisions of this recovery plan when additional information about the biology of the species is available.

Authority

The authority for this action is section 4(f) of the Endangered Species Act, 16 U.S.C. 1533(f).

Dated: May 6, 2002.
D. Kenneth McDermond,
Manager, California/Nevada Operations Office, Region 1, U.S. Fish and Wildlife Service.

[FR Doc. 02-11802 Filed 5-10-02; 8:45 am]

BILLING CODE 4310-55-P